FARM CREDIT ADMINISTRATION

Farm Credit Administration Board; Sunshine Act; Special Meeting

AGENCY: Farm Credit Administration.

SUMMARY: Notice is hereby given, pursuant to the Government in the Sunshine Act (5 U.S.C. 552b(e)(3)), of the special meeting of the Farm Credit Administration Board (Board).

DATE AND TIME: The special meeting of the Board will be held at the offices of the Farm Credit Administration in McLean, Virginia, on June 22, 2011, from 10 a.m. until such time as the Board concludes its business.

FOR FURTHER INFORMATION CONTACT: Dale L. Aultman, Secretary to the Farm Credit Administration Board, (703) 883-4009, TTY (703) 883-4056.

ADDRESSES: Farm Credit Administration, 1501 Farm Credit Drive, McLean, Virginia 22102-5090.

SUPPLEMENTARY INFORMATION: This meeting of the Board will be open to the public (limited space available). In order to increase the accessibility to Board meetings, persons requiring assistance should make arrangements in advance. The matter to be considered at the meeting is:

Open Session

• Request to Merge U.S. AgBank FCB with CoBank ACB

Dated: June 10, 2011.
Dale L. Aultman,
Secretary, Farm Credit Administration Board.

[FR Doc. 2011-14855 Filed 6-10-11; 4:15 pm]

BILLING CODE 6705-01-P